DEPARTMENT OF TRANSPORTATION

National Highway Traffic Safety Administration

[NHTSA Docket No. NHTSA-2012-0079]

Federal Interagency Committee on Emergency Medical Services

AGENCY: National Highway Traffic Safety Administration (NHTSA), DOT.

ACTION: Meeting Notice—Federal Interagency Committee on Emergency Medical Services.

SUMMARY: NHTSA announces a meeting of the Federal Interagency Committee on Emergency Medical Services (FICEMS) to be held in the Washington, DC area. This notice announces the date, time and location of the meeting, which will be open to the public. Pre-registration is required to attend.

DATES: The meeting will be held on June 25, 2012, from 9:00 a.m. EDT to 12:00 p.m. EDT.

ADDRESSES: The meeting will be held at the Department of Transportation (DOT) Headquarters Building at 1200 New Jersey Avenue SE., Washington, DC 20590 in the Conference Center on the ground floor of the West building.

FOR FURTHER INFORMATION CONTACT: Drew Dawson, Director, Office of Emergency Medical Services, National Highway Traffic Safety Administration, 1200 New Jersey Avenue SE., NTI-140, Washington, DC 20590, Telephone number (202) 366-9966; Email Drew.Dawson@dot.gov.

Required Registration Information: This meeting will be open to the public,; however, pre-registration is required to comply with security procedures. Picture I.D. must be provided to enter the DOT Building and it is suggested that visitors arrive 20-30 minutes early in order to facilitate entry. Members of the public wishing to attend must register online at www.regonline.com/FICEMSJune2012 no later than June 21, 2012. Please be aware that visitors to DOT are subject to search and must pass through a magnetometer. Weapons of any kind are strictly forbidden in the building unless authorized through the performance of the official duties of your employment (i.e. law enforcement officer).

SUPPLEMENTARY INFORMATION: Section 10202 of the Safe, Accountable, Flexible, Efficient Transportation Equity Act: A Legacy For Users (SAFETEA-LU), Public Law 109-59, provides that the FICEMS consist of several officials from Federal agencies as well as a State emergency medical services director appointed by the Secretary of Transportation. SAFETEA-LU directs the Administrator of NHTSA, in cooperation with the Administrator of the Health Resources and Services Administration of the Department of Health and Human Services and the Director of the Preparedness Division, Directorate of Emergency Preparedness and Response of the Department of Homeland Security, to provide administrative support to the Interagency Committee, including scheduling meetings, setting agendas, keeping minutes and records, and producing reports.

This meeting of the FICEMS will focus on addressing the requirements of SAFETEA-LU and the opportunities for collaboration among the key Federal agencies involved in emergency medical services. The tentative agenda includes:

• Discussion of Response to Recommendations from the National Transportation Safety Board

○ Update on Helicopter Emergency Medical Services recommendations

○ Status of responses to Mexican Hat, Utah Motorcoach Crash recommendations

• Review of correspondence received

• Reports and updates from Technical Working Group committees

• A discussion of FICEMS strategic planning process

• A discussion of recently finalized recommendations from the National EMS Advisory Council (NEMSAC) including a response to the FICEMS request for information regarding the Model Uniform Core Criteria (MUCC) for mass casualty incident triage

• Reports, updates, and recommendations from FICEMS members

• A public comment period

There will not be a call-in number provided for this FICEMS meeting; however, minutes of the meeting will be available to the public online at www.ems.gov.

Issued on: June 12, 2012.
Jeffrey P. Michael,
Associate Administrator, Research and Program Development.

[FR Doc. 2012-14666 Filed 6-14-12; 8:45 am]

BILLING CODE 4910-59-P